DEPARTMENT OF HOMELAND SECURITY

Federal Emergency Management Agency

44 CFR Part 67

[Docket ID FEMA-2010-0003; Internal Agency Docket No. FEMA-B-1167]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before March 14, 2011.

ADDRESSES: The corresponding preliminary Flood Insurance Rate Map (FIRM) for the proposed BFEs for each community is available for inspection at the community's map repository. The respective addresses are listed in the table below.

You may submit comments, identified by Docket No. FEMA-B-1167, to Luis Rodriguez, Chief, Engineering Management Branch, Federal Insurance and Mitigation Administration, Federal Emergency Management Agency, 500 C Street, SW., Washington, DC 20472, (202) 646-4064, or (e-mail) luis.rodriguez1@dhs.gov.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
St. Charles County, Missouri, and Incorporated Areas
Baltic Creek | At the confluence with Dardenne Creek | +472 | +470 | City of Cottleville, City of St. Peters, City of Weldon Spring, Unincorporated Areas of St. Charles County.
| Approximately 0.7 mile upstream of the confluence with Tributary 7 | +494 | +492
Boschert Creek | At the confluence with Cole Creek | +443 | +441 | City of St. Charles, Unincorporated Areas of St. Charles County.
| Approximately 0.6 mile upstream of Sibley Street | +522 | +532
Cole Creek | Approximately 0.4 mile upstream of the confluence with Boschert Creek | +442 | +443 | City of St. Charles.
| Approximately 800 feet upstream of Graystone Drive | +528 | +529
Crooked Creek | At the confluence with Dardenne Creek | +476 | +475 | City of Cottleville, City of O'Fallon, City of Weldon Spring, Unincorporated Areas of St. Charles County.
| Approximately 0.7 mile upstream of I-64 | None | +574
Cunningham Branch | At the confluence with Dardenne Creek | +538 | +535 | City of O'Fallon, Unincorporated Areas of St. Charles County.
| Approximately 1,250 feet upstream of State Highway D | None | +644
Dardenne Creek | Approximately 400 feet downstream of Norfolk Southern Railroad | +443 | +444 | City of Cottleville, City of O'Fallon, City of St. Peters, Town of Dardenne Prairie, Unincorporated Areas of St. Charles County.
| Approximately 2.3 miles upstream of Oberhelman Road | +752 | +748
East Branch | At the confluence with Spencer Creek | +456 | +458 | City of St. Peters.
Spencer Creek | Just downstream of Boone Hills Drive | +499 | +503
East Branch | At the confluence with Dardenne Creek | +481 | +480 | City of Cottleville, City of O'Fallon, Unincorporated Areas of St. Charles County.
Tributary B | Approximately 150 feet upstream of State Highway K | +516 | +525
East Cole Creek | At the confluence with Cole Creek | +454 | +457 | City of St. Charles.
| Approximately 600 feet upstream of Canary Lane | +487 | +478
Kraut Run | At the confluence with Dardenne Creek | +505 | +506 | Unincorporated Areas of St. Charles County.
| Approximately 1,000 feet upstream of Wilson Road | None | +607
Lake Sainte Louise | Entire shoreline within community | None | +546 | City of Lake St. Louis, Unincorporated Areas of St. Charles County.
Little Dardenne Creek | At the confluence with Dardenne Creek | +553 | +554
| Approximately 0.9 mile upstream of Morrison Lane | None | +719
Oday Creek | At the confluence with Dardenne Creek | +504 | +505 | City of Lake St. Louis, City of O'Fallon, City of St. Charles, Unincorporated Areas of St. Charles County.
| Approximately 425 feet upstream of State Highway N | None | +587
Old Dardenne Creek | At the confluence with Dardenne Creek | +485 | +486 | City of O'Fallon, City of St. Charles, Town of Dardenne Prairie, Unincorporated Areas of St. Charles County.
| Approximately 350 feet upstream of U.S. Route 40/61 | None | +502
Peruque Creek | Approximately 0.3 mile downstream of State Highway Z | +532 | +530 | City of Foristell, City of Wentzville, Unincorporated Areas of St. Charles County.
| Approximately 1.3 miles upstream of State Highway T | None | +630
Peruque Creek | At the confluence with Peruque Creek | None | +613 | City of Foristell, Unincorporated Areas of St. Charles County.
Tributary 2 | Approximately 600 feet upstream of State Highway T | None | +734
Peruque Creek Tributary 8 | Approximately 1.0 mile upstream of the confluence with Peruque Creek | None | +505 | City of Lake St. Louis, City of Wentzville.
| Approximately 0.6 mile upstream of I-70 | None | +546
Peruque Creek Tributary 9 | Approximately 1.0 mile upstream of the confluence with Peruque Creek | +504 | +505 | City of Lake St. Louis, Unincorporated Areas of St. Charles County.
| Approximately 0.4 mile upstream of Henke Road | None | +539
Peruque Creek Tributary 12 | At the confluence with Peruque Creek | +472 | +471 | City of St. Paul, Unincorporated Areas of St. Charles County.
| Approximately 0.4 mile upstream of Meadow Farm Lane | None | +527
Peruque Creek Tributary 14 | Approximately 0.2 mile upstream of the confluence with Peruque Creek | None | +464 | City of O'Fallon, Unincorporated Areas of St. Charles County.
| Approximately 1,000 feet upstream of Civic Park Drive | None | +512
Peruque Creek Tributary 15 | Approximately 900 feet upstream of the confluence with Peruque Creek | None | +464 | City of O'Fallon.
| Approximately 1,300 feet upstream of Main Street | None | +507
Sandfort Creek | Just downstream of Norfolk Southern Railroad | +443 | +442 | City of St. Charles, Unincorporated Areas of St. Charles County.
| Approximately 350 feet downstream of Muegge Road | None | +497
Schote Creek | At the confluence with Dardenne Creek | +482 | +481 | City of O'Fallon, Town of Dardenne Prairie, Unincorporated Areas of St. Charles County.
| Approximately 1.6 miles upstream of U.S. Route 40/61 | None | +583
Spencer Creek | Approximately 365 feet upstream of the railroad | +443 | +444 | City of St. Peters, Unincorporated Areas of St. Charles County.
| Approximately 1,200 feet upstream of Millwood Drive | +525 | +526
Tributary A | At the confluence with Dardenne Creek | +470 | +469 | City of St. Peters, Unincorporated Areas of St. Charles County.
| Approximately 500 feet upstream of Starlight Drive | +533 | +536
Tributary No. 1 | At the confluence with Dardenne Creek | +461 | +464 | City of St. Peters, Unincorporated Areas of St. Charles County.
| Approximately 400 feet upstream of Harris Drive | None | +473
Tributary No. 2 | Just upstream of Ohmes Road | +466 | +465 | City of St. Peters.
| Approximately 0.5 mile upstream of Ohmes Road | None | +478
Tributary No. 3 | At the confluence with Tributary A | +470 | +469 | Unincorporated Areas of St. Charles County.
| Approximately 0.8 mile upstream of St. Peters-Howell Road | None | +503
Tributary No. 4 | At the confluence with Tributary A | +470 | +469 | City of St. Peters, Unincorporated Areas of St. Charles County.
| Approximately 1,150 feet upstream of Woodstream Drive | None | +509
Tributary No. 7 | At the confluence with Baltic Creek | +483 | +482 | City of St. Peters, City of Weldon Spring.
| Approximately 0.8 mile upstream of Pitmann Hill Road | None | +504
Tributary No. 9 | At the confluence with Crooked Creek | +479 | +480 | City of Weldon Spring, Unincorporated Areas of St. Charles County.
| Approximately 0.5 mile upstream of Guthermuth Road | +496 | +497
Tributary No. 13 | At the confluence with Dardenne Creek | +485 | +486 | City of O'Fallon, Town of Dardenne Prairie.
| Approximately 700 feet upstream of McClure Road | +509 | +508
Tributary No. 15 | At the confluence with Dardenne Creek | +496 | +495 | City of O'Fallon, Town of Dardenne Prairie, Unincorporated Areas of St. Charles County.
| Approximately 300 feet upstream of Keystone Crossing Drive | None | +567
Tributary No. 17 | Approximately 0.8 mile upstream of the confluence with Dardenne Creek | None | +522 | City of O'Fallon, Unincorporated Areas of St. Charles County.
| Approximately 900 feet upstream of Hopewell Road | None | +895
Tributary No. 19 | Approximately 1,300 feet upstream of the confluence with Dardenne Creek | +504 | +505 | Unincorporated Areas of St. Charles County.
| Approximately 2.1 miles upstream of the confluence with Dardenne Creek | None | +573
West Branch Spencer Creek | At the confluence with Spencer Creek | +453 | +450 | Unincorporated Areas of St. Charles County.
| Approximately 400 feet upstream of Willott Road | None | +510
West Branch Tributary B | At the confluence with East Branch Tributary B | +491 | +489 | Town of Dardenne Prairie.
| Approximately 150 feet upstream of Bryan Road | None | +622
West Sandfort Creek | At the confluence with Sandfort Creek | +451 | +450 | City of St. Charles, Unincorporated Areas of St. Charles County.
| Approximately 1,400 feet upstream of Harry S. Truman Boulevard | +466 | +459
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Cottleville
Maps are available for inspection at City Hall, 5490 5th Street, Cottleville, MO 63338.
City of Foristell
Maps are available for inspection at City Hall, 121 Mulberry Street, Foristell, MO 63348.
City of Lake St. Louis
Maps are available for inspection at City Hall, 200 Civic Center Drive, Lake St. Louis, MO 63367.
City of O'Fallon
Maps are available for inspection at City Hall, 100 North Main Street, O'Fallon, MO 63366.
City of St. Charles
Maps are available for inspection at City Hall, 200 North 2nd Street, St. Charles, MO 63301.
City of St. Paul
Maps are available for inspection at City Hall, 2300 Saint Paul Road, St. Paul, MO 63366.
City of St. Peters
Maps are available for inspection at City Hall, 1 Saint Peter Centre Boulevard, St. Peters, MO 63376.
City of Weldon Spring
Maps are available for inspection at City Hall, 5401 Independence Road, Weldon Spring, MO 63304.
City of Wentzville
Maps are available for inspection at City Hall, 310 West Pearce Boulevard, Wentzville, MO 63385.
Town of Dardenne Prairie
Maps are available for inspection at the Town Hall, 2032 Hanley Road, Dardenne Prairie, MO 63368.
Unincorporated Areas of St. Charles County
Maps are available for inspection at the St. Charles County Administrative Building, 201 North 2nd Street, St. Charles, MO 63301.

(Catalog of Federal Domestic Assistance No. 97.022, “Flood Insurance.”)

Dated: December 3, 2010.
Sandra K. Knight,
Deputy Federal Insurance and Mitigation Administrator, Mitigation, Department of Homeland Security, Federal Emergency Management Agency.

[FR Doc. 2010-31151 Filed 12-10-10; 8:45 am]

BILLING CODE 9110-12-P